DEPARTMENT OF TRANSPORTATION

Federal Highway Administration

Environmental Impact Statement: Sussex County, DE

AGENCIES: Federal Highway Administration (FHWA) and the Delaware Department of Transportation (DelDOT).

ACTION: Notice of Intent.

SUMMARY: The FHWA is issuing this notice to advise the public that an Environmental Impact Statement (EIS) will be prepared for a proposed highway improvement project in south central Sussex County, Delaware.

FOR FURTHER INFORMATION CONTACT: Mr. Robert F. Kleinburd, Realty and Environmental Program Manager, Federal Highway Administration, Delaware Division, J. Allen Frear Federal Building, 300 South New Street, Room 2101, Dover, DE 19904; Telephone: (302) 734-2966; or Mr. Monroe C. Hite, III, P.E., Project Manager, Delaware Department of Transportation, 800 Bay Road, P.O. Box 778, Dover DE 19903; Telephone: (302) 760-2120. DelDOT Public Relations office (800) 652-5600 (in DE only) or (302) 760-2080.

SUPPLEMENTARY INFORMATION: The Federal Highway Administration (FHWA), in cooperation with the Delaware Department of Transportation (DelDOT), will prepare an Environmental Impact Statement (EIS) to consider changes to the existing US 113 corridor including access restrictions, additional travel lanes, and the construction of a potential new alignment in south central Sussex County, Delaware. The proposed limited access facility would link back to the existing US 113 corridor north of the Town of Georgetown and in the vicinity of the Delaware/Maryland state line in the Town of Selbyville.

DelDOT is currently undertaking a planning study (the US 113 North/Study) to consider improvements for the US 113 corridor from the vicinity of Delaware Route 1 north of the City of Milford south to the Delaware/Maryland state line. The US 113 North/South Study is the next step in the overall planning process for this corridor. This effort is a follow-up to a previously completed feasibility study (Sussex County North-South Transportation Feasibility Study) in July 2001. The data and findings from the feasibility study indicated that upgrading the existing US 113 corridor is feasible and that improvements on new alignment or alignments, bypassing existing US 113, may be a consideration in the Georgetown-South Area, which extends from the Town of Georgetown to the Delaware/Maryland state line.

The US 113 North/South Study recommends that the Georgetown-South Area (area in and around the Towns of Georgetown, Millsboro, Dagsboro, Frankford, and Selbyville located in south central Sussex County, Delaware) be studied separately from the remaining US 113 corridor, north to the Town of Ellendale, northern Sussex County. Because of the potential for new alignment alternative(s), access restrictions, and the resulting potential for significant impacts on the human environment, the FHWA has determined that an EIS is the appropriate documentation for any corridor changes that may be selected within the Georgetown-South Area of study.

A program of public involvement and coordination with Federal, State, and local agencies has been initiated. Both agency and public involvement will continue throughout project development. Comments are being solicited from appropriate Federal, State, and local agencies, and private organizations and citizens who have previously expressed or are known to have interest in this proposal. A public scoping meeting via public workshop will be held. Additional informational meetings will be scheduled during the course of the study. In addition, a formal public hearing will be held after the draft EIS has been prepared. Public notice will be given of the time and place of the scoping meetings, and the formal public hearing. The draft EIS will be available for public and agency review and comment prior to the public hearing on the draft EIS.

To ensure that the full range of issues related to this proposed action are addressed and all significant issues identified, comments, and suggestions are invited from all interested parties. Comments or questions concerning this proposed action and the EIS should be directed to the FHWA or DelDOT at the addresses provided above.

(Catalog of Federal Domestic Assistance Program Number 20.205, Highway Planning and Construction. The regulations implementing Executive Order 12372 regarding intergovernmental consultation on Federal programs and activities apply to this program.)

Issued by: May 24, 2005.
Raymond J. McCormick,
Division Administrator, Federal Highway Administration, Dover, Delaware.

[FR Doc. 05-11068 Filed 6-2-05; 8:45 am]

BILLING CODE 4910-13-M